DEPARTMENT OF HEALTH AND HUMAN SERVICES

Centers for Disease Control and Prevention

Advisory Committee on Immunization Practices

In accordance with section 10(a)(2) of the Federal Advisory Committee Act (Pub. L. 92-463), the Centers for Disease Control and Prevention (CDC) announces the following Federal Committee meeting.

Name: Advisory Committee on Immunization Practices (ACIP).

Times and Dates: 8 a.m.-6:45 p.m., June 29, 2005;8 a.m.-3:35 p.m., June 30, 2005.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters To Be Discussed: The agenda will include discussions on pertussis adolescent recommendation and use in adults; Hepatitis B vaccine recommendation; recommendations of use of Hepatitis A vaccine and possible VFC vote; Measles, Mumps, Rubella, and Varicella Virus Vaccine (MMRV): Overview of varicella epidemiology and possible VFC votes on second dose varicella and MMRV; summary of American Academy of Pediatrics recommendations; Human Papilloma Virus vaccine working group update; general recommendations: vaccine storage and handling; adult immunization schedule; Advisory Committee on Immunization Practices and National Vaccine Advisory Committee joint working group and the preliminary results on pandemic vaccine prioritization; Advisory Committee on Immunization Practices and Healthcare Infection Control Practices Advisory Committee joint statement on immunization of health care workers against influenza; rotavirus; HIV vaccine update; and Departmental updates.

Contact Person for more Information: Demetria Gardner, Epidemiology and Surveillance Division, National Immunization Program, CDC, 1600 Clifton Road, NE., (E-61),Atlanta, Georgia 30333, telephone 404/639-8096, fax 404/639-8616.

Due to programmatic issues that had to be resolved, the Federal Register notice is being published less than fifteen days before the date of the meeting.

The Director, Management Analysis and Services Office, has been delegated the authority to sign Federal Register notices pertaining to announcements of meetings and other committee management activities for both the CDC and ATSDR.

Dated: June 16, 2005.
Alvin Hall,
Director, Management Analysis and Services Office, Centers for Disease Control and Prevention.

[FR Doc. 05-12293 Filed 6-21-05; 8:45 am]

BILLING CODE 4163-18-P